DEPARTMENT OF THE INTERIOR

National Park Service

Telecommunications Facilities; Construction and Operation: Lake Mead National Recreation Area, Clark County, NV

AGENCY: Lake Mead National Recreation Area, NPS, DOI.

ACTION: Public Notice.

SUMMARY: Public notice is hereby given that Lake Mead National Recreation Area has determined that an application by NEXTEL of Nevada to co-locate on an existing communications tower in the River Mountains near the Southern Nevada Water Treatment Plant Surge Tanks is categorically excluded from the requirements of NEPA.

EFFECTIVE DATE: Comments on the proposal will be accepted on or before August 30, 2000

ADDRESSES: Interested parties should contact Superintendent, Lake Mead National Recreation Area, 601 Nevada Highway, Boulder City, Nevada 89005. Further information may be obtained by contacting Nancy Hendricks (702) 293-8949.

SUPPLEMENTARY NOTICE: The initial application made by NEXTEL of Nevada requests permission to Co-locate on the existing tower in the River Mountains. The Superintendent will consider and evaluate all comments received before authorizing NEXTEL to proceed with the permitting process.

Dated: June 21, 2000.
William K. Dickinson,
Acting Superintendent, Lake Mead National Recreation Area.

[FR Doc. 00-17777 Filed 7-12-00; 8:45 am]

BILLING CODE 4310-70-M